DEPARTMENT OF ENERGY

Federal Energy Regulatory Commission

Combined Notice of Filings #3

Take notice that the Commission received the following electric rate filings:

Docket Numbers: ER13-77-008.

Applicants: Tucson Electric Power Company.

Description: Compliance filing: OATT Order No. 1000 Compliance Filing to be effective 1/1/2015.

Filed Date: 11/19/15.

Accession Number: 20151119-5186.

Comments Due: 5 p.m. ET 12/10/15.

Docket Numbers: ER13-78-008.

Applicants: UNS Electric, Inc.

Description: Compliance filing: OATT Order No. 1000 Compliance Filing to be effective 1/1/2015.

Filed Date: 11/19/15.

Accession Number: 20151119-5207.

Comments Due: 5 p.m. ET 12/10/15.

Docket Numbers: ER13-96-007.

Applicants: Black Hills Power, Inc.

Description: Compliance filing: Order No. 1000 OATT Regional Compliance Filing to be effective 1/1/2015.

Filed Date: 11/19/15.

Accession Number: 20151119-5203.

Comments Due: 5 p.m. ET 12/10/15.

Docket Numbers: ER13-97-007.

Applicants: Black Hills/Colorado Electric Utility Co.

Description: Compliance filing: Order No. 1000 OATT Regional Compliance Filing to be effective 1/1/2015.

Filed Date: 11/19/15.

Accession Number: 20151119-5204.

Comments Due: 5 p.m. ET 12/10/15.

Docket Numbers: ER13-120-007.

Applicants: Cheyenne Light, Fuel and Power Company.

Description: Compliance filing: Order No. 1000 OATT Regional Compliance Filing to be effective 1/1/2015.

Filed Date: 11/19/15.

Accession Number: 20151119-5205.

Comments Due: 5 p.m. ET 12/10/15.

Docket Numbers: ER16-358-000.

Applicants: Nevada Power Company.

Description: Compliance filing: OATT Order No. 1000 Revision to Attachment K to be effective 1/1/2015.

Filed Date: 11/19/15.

Accession Number: 20151119-5193.

Comments Due: 5 p.m. ET 12/10/15.

Docket Numbers: ER16-359-000.

Applicants: Pacific Gas and Electric Company.

Description: § 205(d) Rate Filing: Amendment to the NCPA Interconnection Agreement (SA 292) to be effective 1/19/2016.

Filed Date: 11/19/15.

Accession Number: 20151119-5212.

Comments Due: 5 p.m. ET 12/10/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 19, 2015.
Nathaniel J. Davis, Sr.,
Deputy Secretary.

[FR Doc. 2015-29963 Filed 11-24-15; 8:45 am]

BILLING CODE 6717-01-P